DEPARTMENT OF ENERGY

Federal Energy Regulatory Commission

[Docket No. CP10-194-000]

Central New York Oil and Gas Company, LLC; Notice of Filing

May 6, 2010.

Take notice that on April 27, 2010, Central New York Oil and Gas Company, LLC (CNYOG), Two Brush Creek Boulevard, Suite 200, Kansas City, MO 64112, filed an application, pursuant to section 7(c) of the Natural Gas Act (NGA) and Parts 157 and 284 of the Commission's Rules and Regulations, for: (i) A certificate of public convenience and necessity authorizing CNYOG to construct and operate additional compression and appurtenant facilities to increase the throughput capacity of its existing North and South Laterals of Stagecoach Storage Facility; (ii) a blanket certificate authorizing CNYOG to provide firm wheeling services using North and South Laterals; (iii) authority to charge negotiated rates, subject to a cost-based recourse rate alternative, for the proposed wheeling services; (iv) approval of CNYOG's proposed cost-of-service based recourse rate methodology, subject to a post-construction compliance filing to reflect actual costs; and (v) any waivers of Commission regulations necessary to approve the authorizations requested in the application. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Based on the firm commitments for firm wheeling services, CNYOG proposed to install a 15,000 hp of gas-fired compression facility near the interconnect between the North Lateral and Millennium Pipeline, and a 17,000 hp of high-speed electric motor driven compression facility near the interconnect between the South Lateral and Tennessee Gas Pipeline Company. This additional compression will supplement the approximately 36,900 hp of compression already in place at the Stagecoach Central Compression Station, and increase the maximum throughput capacity of the North and South Laterals to approximately 560 MMcf/d and 728 MMcf/d respectively. The increased throughput capacity is necessary to provide up to 325 MMcf/d of firm wheeling capacity between receipt and delivery points on the North and South Laterals, without injection or withdrawal of the gas from the Stagecoach storage reservoir. CNYOG proposes a start date of October 1, 2011.

Any questions regarding the application are to be directed to William F. Demarest, Jr., Husch Blackwell Sanders LLP, 750 17th St., NW., Suite 1000, Washington, DC 20006; phone number (202) 378-2300 or by e-mail at william.demarest@huschblackwell.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: May 27, 2010.

Kimberly D. Bose,
Secretary.

[FR Doc. 2010-11527 Filed 5-13-10; 8:45 am]

BILLING CODE 6717-01-P